ENVIRONMENTAL PROTECTION AGENCY

[FRL-7908-9]

Meeting of the National Drinking Water Advisory Council—Notice of Public Meeting

AGENCY: Environmental Protection Agency.

ACTION: Notice.

SUMMARY: Under Section 10(a)(2) of Public Law 92-423, The Federal Advisory Committee Act, notice is hereby given for a meeting of the National Drinking Water Advisory Council (NDWAC or Council). This Council was authorized by the Safe Drinking Water Act in 1974 (42 U.S.C. 300f et seq.) to support the Environmental Protection Agency in performing its duties and responsibilities related to the national drinking water program. The primary purpose of this meeting is for the Council to review and discuss the draft report of the Water Security Working Group and to continue the dialogue initiated in December 2004 on the revision of existing drinking water program indicators and measures and the potential development of new indicators/measures that are clearly focused on public health protection. Updates on other EPA drinking water program activities will be presented if sufficient time is available.

DATES: The Council meeting will be held on June 1, 2005, from 1:30 p.m. until 5 p.m.; June 2, 2005, from 8:30 a.m. until 5:30 p.m.; and June 3, 2005, from 8:30 a.m. until 12:30 p.m., eastern standard time.

ADDRESSES: The meeting will be held at The Madison Hotel, 1177 15th St., NW., Washington, DC.

FOR FURTHER INFORMATION CONTACT: Members of the public who would like to attend the meeting, present an oral statement, or submit a written statement, should contact Clare Donaher by phone at (202) 564-3787, by e-mail at donaher.clare@epa.gov, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour from 4:30-5:30 p.m. on June 1, 2005 for this purpose. Oral statements will be limited to five minutes. It is preferred that only one person present the statement on behalf of a group or organization. To ensure adequate time for public involvement, individuals or organizations interested in presenting an oral statement should notify Clare Donaher by telephone at (202) 564-3787 no later than May 27, 2005. Any person who wishes to file a written statement can do so before or after a Council meeting. Written statements received by May 27, 2005, will be distributed to all members of the Council before any final discussion or vote is completed. Any statements received after the meeting will become part of the permanent meeting file and will be forwarded to the Council members for their information. Any person needing special accommodations at this meeting, including wheelchair access, should contact Clare Donaher (see FOR FURTHER INFORMATION CONTACT section). Notification of at least five (5) business days before the meeting is preferred so that appropriate special accommodations can be made.

Dated: May 3, 2005.
Cynthia C. Dougherty,
Director, Office of Ground Water and Drinking Water.

[FR Doc. 05-9219 Filed 5-6-05; 8:45 am]

BILLING CODE 6560-50-P